DEPARTMENT OF HEALTH AND HUMAN SERVICES

Administration for Children and Families

Submission for OMB Review; Comment Request

Title: Measure Development: Quality of Family-Provider Relationships in Early Care and Education.

OMB No.: New Collection

The Office of Planning, Research and Evaluation (OPRE), the Administration for Children and Families (ACF), U.S. Department of Health and Human Services (HHS), is proposing a data collection activity as part of the development of an early care and education (ECE) quality measurement tool to assess family-provider relationships that support positive child developmental outcomes and family wellbeing. The major goal of this project is to develop a measure of the quality of family-provider relationships that will be (1) applicable across multiple types of early care and education settings and diverse program structures (including Head Start/Early Head Start); (2) sensitive across cultures associated with racial, ethnic, and socioeconomic characteristics; and (3) reliable in both English and Spanish. At this time, four self-administered surveys (one for center- and home-based child care directors, one for child care providers/teachers, and two for parents) have been developed, based on a literature review, a review of existing measures, and information collected through focus groups (under OMB Clearance 0970-0356) and cognitive interviews (under OMB Clearance 0970-0355). To test these measures, two stages of data collection activities are proposed for this information collection request: a pilot test and a field test.

The pilot test data will be used to examine the distribution of the items and to determine whether they behave in a manner consistent with the conceptual model that was developed as part of the project. The pilot test will also test data collection procedures prior to conducting a large-scale field test. Any problematic items or procedures identified by the pilot test will be corrected and revisions submitted to OMB before the field test.

The purpose of the field test is to obtain sufficient data on a diverse population to enable full psychometric testing of the measures and compare subgroups to ensure that the measure can be used in diverse ECE settings.

Respondents: Directors of center-based child care programs, home-based child care programs, Early Head Start programs, and Head Start programs; center-based and home-based child care providers and ECE teachers; and parents whose children are enrolled in these diverse-types of ECE settings.

Annual Burden Estimate—Pilot and Field Tests
Instrument | Respondent number | Number of responses per respondent | Average burden hours per response | Total burden hours
Director Screener | 428 | 1 | 0.08 | 34.2
Provider/Teacher Screener | 758 | 1 | 0.08 | 60.6
Parent Screener | 1650 | 1 | 0.08 | 132.0
Director Survey | 143 | 1 | 0.17 | 24.3
Provider/Teacher Survey | 253 | 1 | 0.17 | 43.0
Parent Survey about FSWs | 76 | 1 | 0.17 | 12.9
Parent Survey about Providers/Teachers | 475 | 1 | 0.17 | 80.8
Estimated Total |  |  |  | 387.8

Additional Information: Copies of the proposed collection may be obtained by writing to the Administration for Children and Families, Office of Planning, Research and Evaluation, 370 L'Enfant Promenade, SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Steven Hanmer,
Reports Clearance Officer.

[FR Doc. 2012-22387 Filed 9-11-12; 8:45 am]

BILLING CODE 4184-22-M